DEPARTMENT OF COMMERCE

International Trade Administration

[A-570-806]

Silicon Metal From the People's Republic of China: Preliminary Results of the 2005/2006 New Shipper Reviews

AGENCY: Import Administration, International Trade Administration, Department of Commerce.

SUMMARY: The Department of Commerce (“the Department”) is currently conducting the 2005/2006 new shipper reviews of the antidumping duty order on silicon metal from the People's Republic of China (“PRC”). We preliminarily determine that sales have been made below normal value (“NV”) with respect to certain exporters and that certain exporters are entitled to a separate rate in the new shipper reviews. If these preliminary results are adopted in our final results of these reviews, we will instruct U.S. Customs and Border Protection (“CBP”) to assess antidumping duties on entries of subject merchandise during the period of review (“POR”) for which the importer-specific assessment rates are above de minimis.

Interested parties are invited to comment on these preliminary results. We will issue the final results no later than 120 days from the date of publication of this notice.

EFFECTIVE DATE: May 21, 2007.

FOR FURTHER INFORMATION CONTACT: Scot Fullerton or Christopher Riker, AD/CVD Operations, Office 9, Import Administration, International Trade Administration, U.S. Department of Commerce, 14th Street and Constitution Avenue, NW, Washington, DC 20230; telephone: (202) 482-1386 or (202) 482-3441, respectively.

SUPPLEMENTARY INFORMATION:

Background

The Department received timely requests from Shanghai Jinneng International Trade Co., Ltd. (“Shanghai Jinneng”) and Jiangxi Gangyuan Silicon Industry Co., Ltd. (“Jiangxi Gangyuan”) on June 23, 2006, pursuant to section 751(a)(2)(B) the Tariff Act of 1930, as amended (“the Act”), and in accordance with 19 CFR 351.214(c), for new shipper reviews of the antidumping duty order on silicon metal from the PRC. See Antidumping Duty Order: Silicon Metal From the People's Republic of China, 56 FR 26649 (June 10, 1991).

On June 2, 2006, the Department published a notice of opportunity to request an administrative review of the antidumping duty order on silicon metal from the PRC. See Notice of Opportunity to Request Administrative Review of Antidumping or Countervailing Duty Order, Finding, or Suspended Investigation, 71 FR 32032 (June 2, 2006).

On July 25, 2006, the Department initiated new shipper reviews of Shanghai Jinneng and Jiangxi Gangyuan covering the period June 1, 2005, through May 31, 2006. See Silicon Metal From the People's Republic of China: Initiation of Antidumping Duty New Shipper Reviews, 71 FR 42084 (July 25, 2006).

On December 21, 2006, the Department extended the deadline for the preliminary results of the new shipper reviews until May 14, 2007. See Notice of Extension of the Preliminary Results of New Shipper Antidumping Duty Reviews: Silicon Metal from the People's Republic of China, 71 FR 76637 (December 21, 2006).

Scope of Order

The product covered by the order and this review is silicon metal containing at least 96.00 but less than 99.99 percent of silicon by weight, and silicon metal with a higher aluminum content containing between 89 and 96 percent silicon by weight. The merchandise under investigation is currently classifiable under item numbers 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to this order. This order is not limited to silicon metal used only as an alloy agent or in the chemical industry. Although the HTSUS subheading is provided for convenience and customs purposes, the written description of the merchandise is dispositive.

Respondents

On July 26, 2006, we issued antidumping duty questionnaires to Shanghai Jinneng and Jiangxi Gangyuan. See letters to Shanghai Jinneng and Jiangxi Gangyuan from Christopher D. Riker, Program Manager, China/NME Group, Office 9, Import Administration, regarding Silicon Metal from the People's Republic of China, New Shipper Review (6/1/05 - 5/31/06), (July 26, 2006).

On August 31, 2006, both Shanghai Jinneng and Jiangxi Gangyuan responded to section A of the Department's questionnaire. The Department received responses to sections C & D of its questionnaire from both Shanghai Jinneng and Jiangxi Gangyuan on September 18, 2006. On October 2, 2006, the Department received responses to its importer questionnaire from both Shanghai Jinneng and Jiangxi Gangyuan.

On September 28, 2006, the Department issued a supplemental section A questionnaire to Jinagxi Gangyuan. On October 18, 2006, the Department issued a second supplemental questionnaire to Jiangxi Gangyuan. On October 27, 2006, the Department issued a supplemental questionnaire to Shanghai Jinneng. On November 3, 2006, Jianxi Gangyuan submitted its response to the Department's supplemental section A questionnaire. On November 16, 2006, Jiangxi Gangyuan submitted its response to the Department's second supplemental questionnaire. On December 4, 2006, Shanghai Jinneng submitted its response to the Department's October 27, 2006, questionnaire.

On February 2, 2007, the Department issued a third supplemental questionnaire to Jiangxi Gangyuan. On March 5, 2007, Jinagxi Gangyuan submitted its response to the third supplemental questionnaire. On March 6, 2007, the Department issued a second supplemental response to Shanghai Jinneng. Shanghai Jinneng submitted its response to the Department's second questionnaire on March 28, 2007.

Surrogate Country and Factors

On October 19, 2006, the Department provided parties with an opportunity to submit publicly available information (“PAI”) on surrogate countries and values for consideration in these preliminary results. SeeLetter to All Interested Parties, from Christopher D. Riker, Program Manager, AD/CVD Operations, Office 9, regarding 2005/2006 New Shipper Reviews of Silicon Metal from the People's Republic of China (October 19, 2006). On November 6, 2006, however, the Department extended the deadline for the aforementioned comments until December 29, 2006. See Letter to All Interested Parties, from Christopher D. Riker, Program Manager, AD/CVD Operations, Office 9, Import Administration, regarding 2005/2006 New Shipper Reviews of Silicon Metal from the People's Republic of China: Deadline for Submitting Comments on Surrogate Country Selection and Publicly Available Information to Value Factors of Production (November 6, 2006). Furthermore, on December 21, 2006, in response to a request by Globe Metallurgical Inc., the petitioner, the Department extended the deadline again, until February 15, 2007. See Letter to All Interested Parties, from Christopher D. Riker, Program Manager, AD/CVD Operations, Office 9, Import Administration, regarding 2005/2006 New Shipper Reviews of Silicon Metal from the People's Republic of China: Additional Extension of Deadline for Submitting Comments on Surrogate Country Selection and Publicly Available Information to Value Factors of Production (December 21, 2006).

On February 15, 2007, the respondents¹ and petitioner both submitted comments on the selection of a surrogate country. See Letter to the U.S. Department of Commerce, from Shanghai Jinneng and Jiangxi Gangyuan, regarding Silicon Metal from the People's Republic of China (February 15, 2007) (“Respondents' First Submission”); see also Letter to the U.S. Department of Commerce, from petitioner, regarding Silicon Metal from the People's Republic of China; New Shipper Reviews; Comments on Surrogate Country Selection (February 15, 2007) (“Petitioner's First Submission”). On February 26, 2007, petitioner and the respondents both submitted comments rebutting the other party's February 15, 2007, comments on the selection of a surrogate country. See Letter to the U.S. Department of Commerce, from Shanghai Jinneng and Jiangxi Gangyuan, regarding Silicon Metal from the People's Republic of China (February 26, 2007) (“Respondents' Second Submission”), see also Letter to the U.S. Department of Commerce, from petitioner, regarding Silicon Metal from the People's Republic of China; New Shipper Reviews; Rebuttal Comments and Factual Information regarding the Selection of a Surrogate Country and Surrogate Values (February 26, 2007) (“Petitioner's Second Submission”). On March 8, 2007, petitioner rebutted the respondents' February 26, 2007, rebuttal comments. See Letter to the U.S. Department of Commerce, from petitioner, regarding Silicon Metal from the People's Republic of China; New Shipper Reviews; Rebuttal Comments and Factual Information regarding the Selection of a Surrogate Country and Surrogate Values (March 8, 2007) (“Petitioner's Third Submission”). On March 14, 2007, respondents submitted rebuttal comments on petitioner's March 8, 2007, submission (see Letter to the U.S. Department of Commerce, from Shanghai Jinneng and Jiangxi Gangyuan, regarding Silicon Metal from the People's Republic of China (March 14, 2007) (“Respondents' Third Submission”)), and on March 16, 2007, petitioner responded to the respondents' March 14, 2007, submission (see Letter to the U.S. Department of Commerce, from petitioner, regarding Silicon Metal from the People's Republic of China; New Shipper Reviews; Response to Respondents' March 13 Letter (March 16, 2007)).

¹ The respondents are Shanghai Jinneng International Trade Co., Ltd. and Jiangxi Gangyuan Silicon Industry Company, Ltd.

On April 6, 2007, petitioner submitted rebuttal surrogate value data (see Letter to the U.S. Department of Commerce, from petitioner, regarding Silicon Metal from the People's Republic of China; New Shipper Review; Submission of Rebuttal Surrogate Value Factual Information and Comments (April 6, 2007)). On April 20, 2007, respondents responded to the preceding petitioner surrogate value submission (see Letter to U.S. Department of Commerce, from Shanghai Jinneng and Jiangxi Gangyuan, regarding Silicon Metal from the People's Republic of China: Surrogate Value Rebuttal (April 20, 2007)). Finally, petitioner submitted surrogate value information and comments on April 27, 2007 (see Letter to the U.S. Department of Commerce, from petitioner, regarding Silicon Metal from the People's Republic of China; New Shipper Review; Submission of Rebuttal Surrogate Value Factual Information and Comments (April 27, 2007)).

Verification

The Department verified the questionnaire responses of Jiangxi Gangyuan on April 4-6, 2007, and Shanghai Jinneng on April 9-10, 2007 (which included a verification of Shanghai Jinneng's affiliated producer, Datong Jinneng, on April 11-12, 2007). For these companies, we used standard verification procedures, including on-site inspection of the manufacturers' and exporters' facilities, and examination of relevant sales and financial records. Our verification results are outlined in the verification report for each company. For a further discussion, see Memorandum to the File, through Christopher D. Riker, Program Manager, AD/CVD Operation, Office 9, from Scot T. Fullerton, Senior International Trade Compliance Analyst, regarding Verification of the Questionnaire Responses of Jiangxi Gangyuan Silicon Industry Co., Ltd., in the Antidumping New Shipper Review of Silicon Metal from the People's Republic of China (“Jiangxi Gangyuan Verification Report”); see also Memorandum to the File, through Christopher D. Riker, Program Manager, AD/CVD Operation, Office 9, from Scot T. Fullerton, Senior International Trade Compliance Analyst, and Michael J. Quigley, International Trade Compliance Analyst, regarding Verification of the Questionnaire Responses of Shanghai Jinneng International Trade Co., Ltd., in the Antidumping New Shipper Review of Silicon Metal from the People's Republic of China (“Shanghai Jinneng Verification Report”); and see also Memorandum to the File, through Christopher D. Riker, Program Manager, AD/CVD Operation, Office 9, from Scot T. Fullerton, Senior International Trade Compliance Analyst, and Michael J. Quigley, International Trade Compliance Analyst, regarding Verification of the Questionnaire Responses of Shanghai Jinneng that relate to Datong Jinneng Industrial Silicon Co., Ltd., in the Antidumping New Shipper Review of Silicon Metal from the People's Republic of China (“Datong Jinneng Verification Report”).

Bona Fide Sale Analysis - Shanghai Jinneng & Jiangxi Gangyuan

For the reasons stated below, we preliminarily find that Shanghai Jinneng's and Jiangxi Gangyuan's reported U.S. sales during the POR appear to be bona fide based on the totality of the facts on the record. Specifically, we find that: (1) The prices of Shanghi Jinneng's and Jiangxi Gangyuan's sales were within the range of the prices of other entries of subject merchandise from the PRC into the United States during the POR; (2) Shanghai Jinneng's and Jiangxi Gangyuan's sales were made to unaffiliated parties at arm's length; and (3) there is no record evidence that indicates that Shanghai Jinneng's and Jiangxi Gangyuan's sales were not made based on commercial principles. See Memorandum to James C. Doyle, Director, AD/CVD Operations, Office 9, Import Administration, through Christopher D. Riker, Program Manager, AD/CVD Operations, Office 9, from Michael J. Quigley, International Trade Analyst, AD/CVD Operations, Office 9, regarding 2005/2006 Antidumping Duty New Shipper Review of the Antidumping Duty Order on Silicon Metal from the People's Republic of China: Bona Fide Analysis of the Sale(s) Reported by Shanghai Jinneng International Trade Co., Ltd. (May 11, 2007); see also Memorandum to James C. Doyle, Director, AD/CVD Operations, Office 9, through Christopher D. Riker, Program Manager, AD/CVD Operations, Office 9, from Scot T. Fullerton, Senior International Trade Analyst, AD/CVD Operations, Office 9, regarding 2005/2006 Antidumping Duty New Shipper Review of the Antidumping Duty Order on Silicon Metal from the People's Republic of China: Bona Fide Analysis of the Sale(s) Reported by Jiangxi Gangyuan Silicon Industry Co., Ltd. (May 11, 2007).

Non-Market Economy Country

In every case conducted by the Department involving the PRC, the PRC has been treated as a non-market economy (“NME”) country. Pursuant to section 771(18)(C)(i) of the Act, any determination that a foreign country is a NME country shall remain in effect until revoked by the administering authority. See, e.g., Freshwater Crawfish Tail Meat from the People's Republic of China: Notice of Final Results of Antidumping Duty Administrative Review, 71 FR 7013 (February 10, 2006). None of the parties to this proceeding has contested such treatment. Accordingly, we calculated NV in accordance with section 773(c) of the Act, which applies to NME countries.

Surrogate Country

Section 773(c)(4) of the Act requires the Department to value an NME producer's factors of production, to the extent possible, in one or more market-economy countries that (A) are at a level of economic development comparable to that of the NME country, and (B) are significant producers of comparable merchandise. Of the five countries identified by the Office of Policy as economically comparable to the PRC, data supplied by respondents and petitioner indicate that both India and Egypt are both significant producers of merchandise comparable to silicon metal. The record, however, lacks Egyptian data to value quartzite (the source of silicon in silicon metal), charcoal, and rice straw, as well as contemporaneous Egyptian values for certain other inputs as well as freight. However, with respect to India, sufficient publicly available surrogate value information is available on the record. Therefore, we used India as the primary surrogate country to value all inputs. See Memorandum to the File, through Christopher D. Riker, Program Manager, AD/CVD Operations, Office 9, from Michael J. Quigley, International Trade Analyst, AD/CVD Operations, Office 9, regarding Surrogate Values Used for the Preliminary Results of the 2005-2006 New Shipper Reviews of Silicon Metal from the People's Republic of China (May 11, 2007) (“Factor Valuation Memo”).

For further discussion of our surrogate country selection, see Memorandum to the File, through James C. Doyle Director, AD/CVD Operations, Office 9 and Christopher D. Riker, Program Manager, AD/CVD Operations, Office 9, from Michael Quigley, International Trade Analyst, AD/CVD Operations, Office 9, regarding Antidumping Duty New Shipper Reviews of Silicon Metal from the People's Republic of China: Selection of a Surrogate Country (May 11, 2007) (“Surrogate Country Memorandum”).

Separate Rates

To establish whether a company operating in an NME is sufficiently independent to be entitled to a separate rate, the Department analyzes each exporting entity under the test established in the Final Determination of Sales at Less Than Fair Value: Sparklers from the People's Republic of China, 56 FR 20588 (May 6, 1991) (“Sparklers”), as amplified by the Final Determination of Sales at Less Than Fair Value: Silicon Carbide from the People's Republic of China, 59 FR 22585 (May 2, 1994). Under the separate-rates criteria, the Department assigns separate rates in NME cases only if the respondent can demonstrate the absence of both de jure and de facto governmental control over export activities.

De Jure Control

The Department considers the following criteria in determining whether an individual company is free of de jure absence of government control over export activities: (1) an absence of restrictive stipulations associated with an individual exporter's business and export licenses; (2) any legislative enactments decentralizing control of companies; and (3) any other formal measures by the government decentralizing control of companies. See Sparklers, 56 FR at 20588.

In their questionnaire responses, Shanghai Jinneng and Jiangxi Gangyuan stated that they are independent legal entities, and placed evidence on the record that indicates that the PRC government does not have de jure control over their export activities. Shanghai Jinneng and Jiangxi Gangyuan submitted evidence of their legal right to set prices independent of governmental oversight. Furthermore, the business licenses of Shanghai Jinneng and Jianxi Gangyuan indicate that they are permitted to engage in the exportation of silicon metal. We also found no evidence of de jure governmental control restricting Shanghai Jinneng's and Jiangxi Gangyuan's exportation of silicon metal.

The following laws, which have been placed on the record of this review, indicate a lack of de jure government control. The Company Law of the People's Republic of China, made effective on July 1, 1994, with the amended version promulgated on August 28, 2004, states that a company is legal entity, that shareholders shall assume liability towards the company to the extent of their shareholdings and that the company shall be liable for its debts to the extent of all its assets. Shanghai Jinneng and Jiangxi Gangyuan also provided copies of the Foreign Trade Law of the PRC, promulgated on May 12, 1994, which identifies the rights and responsibilities of organizations engaged in foreign trade, grants autonomy to foreign-trade operators in management decisions and establishes the foreign trade operator's accountability for profits and losses. The Department, therefore, preliminarily determines that there is an absence of de jure control over the export activities of Shanghai Jinneng and Jiangxi Gangyuan.

De Facto Control

The Department typically considers four factors in evaluating whether a respondent is subject to de facto government control over its exports: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management. See, e.g., Notice of Final Determination of Sales at Less Than Fair Value: Furfuryl Alcohol From the People's Republic of China, 60 FR 22544, 22545 (May 8, 1995).

Shanghai Jinneng and Jiangxi Gangyuan have both asserted the following:

(1) Each establishes its own export prices; (2) each negotiates contracts without guidance from any governmental entities or organizations; (3) each makes its own personnel decisions; and

(4) each retains the proceeds of its export sales, uses profits according to its business needs, and has the authority to sell its assets and to obtain loans. Moreover, the Department verified that Shanghai Jinneng and Jiangxi Gangyuan are free of de facto government control. Based upon information on the record, there is a sufficient basis to preliminarily determine that Shanghai Jinneng and Jiangxi Gangyuan have demonstrated an absence of de facto governmental control over their export functions. Therefore, because Shanghai Jinneng and Jiangxi Gangyuan operate free of de jure and de facto government control, the Department has preliminarily determined that Shanghai Jinneng and Jiangxi Gangyuan have satisfied the criteria for separate rates based on the documentation each has submitted on the record.

Normal-Value Comparisons

To determine whether Shanghai Jinneng's and Jiangxi Gangyuan's sales of the subject merchandise to the United States were made at prices below NV, their United States prices were compared to NV, as described in the “United States Price” and “Normal Value” sections of this notice.

United States Price

For Shanghai Jinneng and Jiangxi Gangyuan, the Department based U.S. price on export price (“EP”) in accordance with section 772(a) of the Act, because the first sales to unaffiliated purchasers were made prior to importation, and constructed export price (“CEP”) was not otherwise warranted by the facts on the record. We calculated EP based on packed prices from the exporter to the first unaffiliated purchaser in the United States. Where applicable, foreign inland freight, foreign brokerage and handling expenses, and ocean freight were deducted from the starting price (gross unit price) in accordance with section 772(c) of the Act.

Normal Value

Section 773(c)(1) of the Act provides that the Department shall determine NV using a factors of production (“FOP”) methodology if the merchandise is exported from an NME country and the available information does not permit the calculation of NV using home-market prices, third-country prices, or constructed value under section 773(a) of the Act and 19 CFR 351.408. The Department will base NV on the factors of production because the presence of government controls on various aspects of these economies renders price comparisons and the calculation of production costs invalid under its normal methodologies. See Tapered Roller Bearings and Parts Thereof, Finished or Unfinished, From the People's Republic of China: Preliminary Results of Antidumping Duty Administrative Review and Notice of Intent to Rescind in Part, 70 FR 29744, 39754 (July 11, 2005) (unchanged in final results). See Tapered Roller Bearings and Parts Thereof, Finished or Unfinished, From the People's Republic of China: Final Results of 2003-2004 Administrative Review and Partial Rescission of Review.

For purposes of calculating NV, we selected surrogate values for the PRC factors of production in accordance with section 773(c)(1) of the Act. Factors of production include, but are not limited to, hours of labor required, quantities of raw materials employed, amounts of energy and other utilities consumed, and representative capital costs, including depreciation. See section 773(c)(3) of the Act. In choosing surrogate values, we selected, where possible, a publicly available value which was an average country-wide, non-export value, representative of a range of prices within the POR or most contemporaneous with the POR, product-specific, and tax-exclusive. See, e.g., Notice of Preliminary Determination of Sales at Less Than Fair Value and Postponement of Final Determination: Chlorinated Isocyanurates from the People's Republic of China, 69 FR 75294, 75300 (December 16, 2004) (“Chlorinated Isocyanurates”), unchanged in Notice of Final Determination of Sales at Less Than Fair Value: Chlorinated Isocyanurates From the People's Republic of China, 70 FR 24502 (May 10, 2005). In selecting the surrogate values, we considered the quality, specificity, and contemporaneity of the data. See Manganese Metal from the People's Republic of China: Final Results and Partial Rescission of Antidumping Duty Administrative Review, 63 FR 12442 (March 13, 1998).

Factor Valuations

In accordance with section 773(c) of the Act, the Department calculated NV based on the FOPs reported by Shanghai Jinneng and Jiangxi Gangyuan for the POR. To calculate NV, the reported per-unit factor quantities was multiplied by publicly available surrogate values. As appropriate, we adjusted input prices by including freight costs to reflect delivered prices. For a detailed explanation of all surrogate values used for respondents, see Factor Valuation Memo.

Except where discussed below, we valued raw material inputs using June 2005-May 2006 weighted-average Indian import values derived from the World Trade Atlas online (“WTA”) (see Factor Valuation Memo). The Indian import statistics we obtained from the WTA were published by the Directorate General of Commercial Intelligence and Statistics, Ministry of Commerce of India and are contemporaneous with the POR. As the Indian surrogate values were denominated in rupees, they were converted to U.S. dollars using the exchange rate for India on the date of the applicable sale. The daily exchange rate was the exchange rate data from the Department's website, which are taken from publicly available data from the Federal Reserve and Dow Jones. See http://www.ia.ita.doc.gov/exchange/index.html. Where we could not obtain publicly available information contemporaneous with the POR with which to value factors, we adjusted the publicly available information for inflation using Indian wholesale price indices (“WPIs”) as published in the International Monetary Fund's International Financial Statistics (“IFS”). See Factor Valuation Memo.

In instances where we relied on Indian import data to value inputs, in accordance with the Department's practice, we excluded imports from both NME countries and countries deemed to maintain broadly available, non-industry-specific subsidies which may benefit all exporters to all export markets (i.e., Indonesia, South Korea, and Thailand) from our surrogate value calculations. See, e.g., Final Determination of Sales at Less Than Fair Value: Certain Automotive Replacement Glass Windshields from the People's Republic of China, 67 FR 6482 (February 12, 2002) and accompanying Issues and Decision Memorandum at Comment 1. See, also, Notice of Preliminary Determination of Sales at Less Than Fair Value, Postponement of Final Determination, and Affirmative Preliminary Determination of Critical Circumstances: Certain Color Television Receivers From the People's Republic of China, 68 FR 66800, 66808 (November 28, 2003), unchanged in the Department's final determination at 69 FR 20594 (April 16, 2004). Additionally, imports that were labeled as originating from an “unspecified” country were excluded from the average value, because the Department could not be certain that they were not from either an NME or a country with generally available export subsidies.

Surrogate Valuations

To value the input of quartzite, data from the 2005 edition of the Indian Minerals Yearbook published by the Indian Bureau of Mines that accounted for the period April 2004 through March 2005. This data precedes the POR and was adjusted for inflation. See Factor Valuation Memo, Attachment 3.

To value charcoal, we used Indian import data that accounted for the POR from the Monthly Statistics for HTS number 4402. This data coincides with the POR and was not adjusted for inflation. See Factor Valuation Memo, Attachment 5.

To value carbon electrodes, we used Indian import data that accounted for the POR from the Monthly Statistics for HTS number 8545.11.00. This data coincides with the POR and was not adjusted for inflation. See Factor Valuation Memo, Attachment 5.

To value petroleum coke, we used Indian import data that accounted for the POR from the Monthly Statistics for HTS numbers 2713.11.00 (petroleum coke not calcined). This data coincides with the POR and was not adjusted for inflation. See Factor Valuation Memo, Attachment 5.

To value coal, we used Indian import data that accounted for the POR from the Monthly Statistics for HTS number 2719.10.20, for steam coal. This data coincides with the POR and was not adjusted for inflation. See Factor Valuation Memo, Attachment 5.

To value fuel wood, we used Indian import data that accounted for the POR from the Monthly Statistics for HTS numbers 4401.10. This data coincides with the POR and was not adjusted for inflation. See Factor aluation Memo, Attachment 5.

To value rice straw, we used Indian import data that accounted for the POR from the Monthly Statistics for HTS numbers 1213.00.00. The data coincides with the POR and was not adjusted for inflation. See Factor Valuation Memo, Attachment 5.

To value silica fume, we used Indian import data that accounted for the POR from the Monthly Statistics for HTS numbers 2811.22.00. This data coincides with the POR and was not adjusted for inflation. See Factor Valuation Memo, Attachment 5.

To value the bags used as packing materials for subject merchandise and silica fume, we used Indian import data that accounted for the POR from the Monthly Statistics for HTS number 6305.33.00. This data coincides with the POR and was not adjusted for inflation. See Factor Valuation Memo, Attachment 5.

Section 351.408(c)(3) of the Department's regulations requires the use of a regression-based wage rate. Therefore, to value the labor input, the Department used the regression-based wage rate for the PRC published by Import Administration on its website. See http://www.ia.ita.doc.gov/wages/index.html.

We valued electricity using rates from Key World Energy Statistics 2003, published by the International Energy Agency (“IEA”). We adjusted the rate to make it contemporaneous with the POR. See Factor Valuation Memo, Attachment 7.

To value truck freight expenses for both raw materials and subject merchandise, we used an average rate per kilometer per metric ton calculated from data obtained from the web site of an Indian transport company, InFreight Technologies India Ltd. This data coincides with the POR and was not adjusted for inflation. See Factor Valuation Memo, Attachment 8.

To value rail freight expenses for the shipment of petroleum coke, we used the rail freight tariff in effect for August 2004 as published by Indian Railways, and inflated it for the POR. See Factor Valuation Memo, Attachment 9.

To value SG&A, factory overhead and profit, the Department used the 2005-2006 financial statements from Indsil Eletrosmelts Limited and Nava Bharat Ferro Alloys Limited. See Factor Valuation Memo, Attachment 10.

We also note that Jiangxi Gangyuan erred in reporting the total product used in the calculation of the factors of production. Therefore, for purposes of these preliminary results, we are amending the reported total production figure. For a more detailed explanation, see Jiangxi Gangyuan Verification Report; see also Memorandum to the File from Scot T. Fullerton, Senior International Trade Compliance Analyst, through Christopher D. Riker, Program Manager, AD/CVD Operations, Office 9, regarding, Silicon Metal From the People's Republic of China - Analysis Memorandum for the Preliminary Results of New Shipper Review Jiangxi Gangyuan Industry Silicon Co., Ltd. Calculation Memorandum (May 11, 2007).

Finally, we also note that Shanghai Jinneng erred in reporting its silica fume bags, and labor consumption. Therefore, for purposes of these preliminary results, we are amending the calculated consumption of both the silica fume bags and labor calculation. For a more detailed explanation, see Datong Jinneng Verification Report; see also Memorandum to the File from Michael Quigley, International Trade Compliance Analyst, through Christopher D. Riker, Program Manager, AD/CVD Operations, Office 9, regarding, Silicon Metal From the People's Republic of China - Analysis Memorandum for the Preliminary Results of New Shipper Review Shanghai Jinneng International Trade Co., Ltd. Calculation Memorandum (May 11, 2007).

Currency Conversions

We made currency conversions using exchange rates obtained from the website of Import Administration at http://ia.ita.doc.gov/exchange/index.html.

Preliminary Results of Reviews

We preliminarily determine that the following margins exist for Shanghai Jinneng and Jiangxi Gangyuan during the period June 1, 2005, through May 31, 2006:

Silicon Metal from the PRC
Company | Weighted-Average Margin (Percent)
Shanghai Jinneng International Trade Co., Ltd. | 80.74
Jiangxi Gangyuan Silicon Industry Co., Ltd. | 124.79

We will disclose the calculations used in our analysis to parties to these proceedings within five days of the date of publication of this notice.

Case briefs from interested parties may be submitted not later than 30 days of the date of publication of this notice, pursuant to 19 CFR 351.309(c). Rebuttal briefs, limited to issues raised in the case briefs, will be due five days later, pursuant to 19 CFR 351.309(d). Parties who submit case or rebuttal briefs in this proceeding are requested to submit with each argument (1) a statement of the issue and (2) a brief summary of the argument. Parties are also encouraged to provide a summary of the arguments not to exceed five pages and a table of statutes, regulations, and cases cited.

Any interested party may request a hearing within 30 days of publication of this notice. Interested parties who wish to request a hearing or to participate if one is requested, must submit a written request to the Assistant Secretary for Import Administration within 30 days of the date of publication of this notice. Requests should contain: (1) The party's name, address, and telephone number; (2) the number of participants; and (3) a list of issues to be discussed. See 19 CFR 351.310(c). Issues raised in the hearing will be limited to those raised in the briefs.

The Department will issue the final results of these reviews, including the results of its analysis of issues raised in any such written briefs or at the hearing, if held, not later than 120 days after the date of publication of this notice.

Assessment Rates

Pursuant to 19 CFR 351.212(b), the Department will determine, and CBP shall assess, antidumping duties on all appropriate entries. The Department intends to issue appropriate assessment instructions directly to CBP 15 days after publication of the final results of these new shipper reviews. For assessment purposes, where possible, we calculated importer-specific assessment rates for silicon metal from the PRC via \ duty assessment rates based on the ratio of the total amount of the dumping margins calculated for the examined sales to the total entered value of those same sales. We will instruct CBP to assess antidumping duties on all appropriate entries covered by these new shipper reviews if any assessment rate calculated in the final results of this review is above de minimis. The final results of these new shipper reviews shall be the basis for the assessment of antidumping duties on entries of merchandise covered by the final results of these reviews and for future deposits of estimated duties, where applicable.

Cash Deposit Requirements

The following cash deposit requirements will be effective upon publication of the final results of these reviews for all shipments of the subject merchandise entered, or withdrawn from warehouse, for consumption on or after the publication date, as provided for by section 751(a)(2)(c) of the Act: (1) For the manufacturers/exporters listed above, the cash deposit rate will be that established in the final results of this review (except, if the rate is zero or de minimis, no cash deposit will be required); (2) for subject merchandise exported by Shanghai Jinneng or Jiangxi Gangyuan, but not manufactured by Datong Jinneng or Jiangxi Gangyuan, respectively, the cash deposit rate will continue to be the PRC-wide rate (i.e., 139.49 percent); and (3) for subject merchandise produced by Jiangxi Gangyuan or Datong Jinneng but not exported by Jiangxi Gangyuan or Shanghai Jinneng, respectively, the cash deposit rate will be the rate applicable to the exporter. These cash deposit requirements, when imposed, should remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These new shipper reviews and notice are in accordance with sections 751(a)(1), 751(a)(2)(B), and 777(i) of the Act and 19 CFR 351.213 and 351.214.

Dated: May 11, 2007.
David M. Spooner,
Assistant Secretary for Import Administration.

[FR Doc. E7-9703 Filed 5-18-07; 8:45 am]

BILLING CODE 3510-DS-S